DEPARTMENT OF HEALTH AND HUMAN SERVICES

Health Resources and Services Administration

Meeting of the CDC/HRSA Advisory Committee on HIV, Viral Hepatitis, and STD Prevention and Treatment

AGENCY: Health Resources and Services Administration (HRSA), Department of Health and Human Services (HHS).

ACTION: Notice.

SUMMARY: In accordance with the Federal Advisory Committee Act, this notice announces that the Centers for Disease Control and Prevention (CDC)/HRSA Advisory Committee on HIV, Viral Hepatitis and STD Prevention and Treatment (CHAC) has scheduled a public meeting. Information about CHAC and the meeting can be found on the CHAC website at https://www.cdc.gov/faca/committees/chachspt.html and the meeting website at https://targethiv.org/events/chac.

DATES: October 21, 2024, 9 a.m. to 5 p.m. eastern time (ET) and October 22, 2024, 9 a.m. to 3 p.m. ET.

ADDRESSES: This meeting will be hybrid, held both virtually through Zoom and in-person at 5600 Fishers Lane in Rockville, Maryland, 20857. Advance registration is required to attend. Please visit the meeting website to register. Registration will open in August. The in-person registration deadline is Monday, October 14, 2024, at 5 p.m. ET; registration for virtual attendance will remain open. Prior to the meeting, each individual registrant will receive a registration confirmation along with an access link to the virtual meeting location.

FOR FURTHER INFORMATION CONTACT: Breana Alsworth, Public Health Analyst, HIV/AIDS Bureau, HRSA, 5600 Fishers Lane, Rockville, Maryland 20857; (301) 443-1134; or CHACAdvisoryComm@hrsa.gov.

SUPPLEMENTARY INFORMATION: CHAC provides advice and recommendations to the Secretary of HHS on policy, program development, and other matters of significance concerning the activities under section 222 of the Public Health Service Act, 42 U.S.C. 217a.

The purpose of CHAC is to advise the Secretary of HHS, CDC Director, and HRSA Administrator regarding objectives, strategies, policies, and priorities for the prevention and treatment of HIV, viral hepatitis, and other STDs, including surveillance, epidemiologic, behavioral, health services, and laboratory research, identification of policy issues related to professional education, patient healthcare delivery, and prevention services; agency policies regarding health care delivery, research and training; strategic issues influencing the ability of CDC and HRSA to fulfill their missions' programmatic efforts to prevent and treat HIV, viral hepatitis, and other STDs; and support to CDC and HRSA in their development of responses to emerging health needs related to these issues.

During the October 21-22, 2024, meeting, CHAC will discuss issues related to re-engaging people with HIV out of care (including data-to-care strategies and overcoming barriers to care), the use of long-acting injectables for HIV care and treatment and increasing access to mental health services for people with HIV and STDs. Agenda items are subject to change as priorities dictate. Please refer to the CHAC meeting information page listed above for any updated meeting information.

Members of the public will have the opportunity to provide comments. Public participants may also submit written statements as further described below. Oral comments will be honored in the order they are requested and may be limited as time allows. Requests to submit a written statement or make oral comments to CHAC should be sent via the meeting website at https://targethiv.org/events/chac after registration has opened. Requests for oral comment must be received by October 11, 2024, at 5:00 p.m. ET to be considered. Written comments may be submitted to Breana Alsworth (CHACAdvisoryComm@hrsa.gov) prior to and up to 10 business days after the meeting. Visit the meeting information page for additional details: https://targethiv.org/events/chac.

Individuals who plan to attend and need special assistance or another reasonable accommodation should notify Breana Alsworth (CHACAdvisoryComm@hrsa.gov) at least 10 business days prior to the meeting. Since this meeting occurs in a Federal Government building, attendees must go through a security check to enter the building. Non-U.S. Citizen attendees must notify HRSA of their planned attendance at least 20 business days prior to the meeting to facilitate their entry into the building. All attendees are required to present government-issued identification prior to entry.

Maria G. Button,
Director, Executive Secretariat.

[FR Doc. 2024-16504 Filed 7-25-24; 8:45 am]

BILLING CODE 4165-15-P